DEPARTMENT OF ENERGY

10 CFR Chapter II

Appliance Standards and Rulemaking Federal Advisory Committee (ASRAC)

AGENCY: Office of Energy Efficiency and Renewable Energy, Department of Energy.

ACTION: Notice of open meeting.

SUMMARY: This document announces the first meeting of the Appliance Standards and Rulemaking Federal Advisory Committee (ASRAC). The Federal Advisory Committee Act, Public Law 92-463, 86 Stat. 770, requires that public notice of this meeting be announced in the Federal Register.

DATES: Tuesday, February 26, 2013, 9:00 a.m.-5:00 p.m. (EST).

ADDRESSES: U.S. Department of Energy, Forrestal Building, Room 1E-245, 1000 Independence Avenue SW., Washington, DC 20585.

FOR FURTHER INFORMATION CONTACT: John Cymbalsky, ASRAC Designated Federal Officer, U.S. Department of Energy (DOE), Office of Energy Efficiency and Renewable Energy, 950 L'Enfant Plaza SW., Washington, DC 20024. Email: asrac@ee.doe.gov.

SUPPLEMENTARY INFORMATION: Purpose of Meeting: To provide advice and recommendations to the Energy Department on the development of standards and test procedures for residential appliances and commercial equipment, certification and enforcement of standards, and product labeling.

Tentative Agenda: (Subject to change; final agenda will be posted at the following Web site: www.appliancestandards.energy.gov):

• Overview of the Appliance Standards Program.

• Discussion of the Committee's purpose and structure.

• Discussion of appliances and equipment best suited for the negotiated rulemaking process.

Public Participation: Members of the public are welcome to observe the business of the meeting and may make oral statements during the specified period for public comment. To attend the meeting and/or to make oral statements regarding any of the items on the agenda, email: asrac@ee.doe.gov. In the email, please indicate your name, organization (if appropriate), citizenship, and contact information. Space is limited. Please indicate if the individual is not a U.S. citizen to ensure the proper paperwork for entry can be completed in advance. Please notify ASRAC staff as soon as possible, but no later than Friday, February 15, 2013, by emailing: asrac@ee.doe.gov. Anyone attending the meeting will be required to present government-issued photo identification, such as a passport, driver's license, or government identification. Due to the required security screening upon entry, individuals attending are advised to arrive early for processing.

Public comment will be available on a first come, first served basis. Time allotted per speaker will depend on the number of individuals who wish to speak but will not exceed five minutes. Reasonable provision will be made to include the scheduled oral statements on the agenda. The co-chairs of the Committee will make every effort to hear the views of all interested parties and are empowered to conduct the meeting in a fashion that will facilitate the orderly conduct of business.

Participation in the meeting is not a prerequisite for submission of written comments. ASRAC invites written comments from all interested parties. If you would like to file a written statement with the committee, you may do so either by submitting a hard or electronic copy before or after the meeting. Electronic copy of written statements should be emailed to asrac@ee.doe.gov.

Minutes: The minutes of the meeting will be available for public review at www.appliancestandards.energy.gov

Issued in Washington, DC, on January 11, 2013.
LaTanya R. Butler,
Deputy Committee Management Officer.

[FR Doc. 2013-00931 Filed 1-16-13; 8:45 am]

BILLING CODE 6450-01-P